DEPARTMENT OF COMMERCE

International Trade Administration

University of Kentucky, et al.; Notice of Consolidated Decision on Applications for Duty-Free Entry of Electron Microscope

This is a decision consolidated pursuant to Section 6(c) of the Educational, Scientific, and Cultural Materials Importation Act of 1966 (Pub. L. 89-651, as amended by Pub. L. 106-36; 80 Stat. 897; 15 CFR part 301). Related records can be viewed between 8:30 a.m. and 5:00 p.m. in Room 3720, U.S. Department of Commerce, 14th and Constitution Avenue NW., Washington, DC.

Docket Number: 15-001. Applicant: University of Kentucky, Lexington, KY 40506-0046. Instrument: Electron Microscope. Manufacturer: FEI Company, Czech Republic. Intended Use: See notice at 80 FR 2914-15, January 21, 2015.

Docket Number: 15-029. Applicant: University of California, Irvine, Irvine, CA 92697-2575. Instrument: Electron Microscope. Manufacturer: JEOL Ltd., Japan. Intended Use: See notice at 80 FR 65984, October 28, 2015.

Docket Number: 15-031. Applicant: University of California, Irvine, Irvine, CA 92697-2575. Instrument: Electron Microscope. Manufacturer: JEOL Ltd., Japan. Intended Use: See notice at 80 FR 65984, October 28, 2015.

Docket Number: 15-035. Applicant: Drexel University, Philadelphia, PA 19104. Instrument: Electron Microscope. Manufacturer: JEOL Ltd., Japan. Intended Use: See notice at 80 FR 65984, October 28, 2015.

Docket Number: 15-036. Applicant: The Trustees of Princeton University, Princeton, NJ 08540. Instrument: Electron Microscope. Manufacturer: FEI Czech Republic s.r.o., Czech Republic. Intended Use: See notice at 80 FR 65984, October 28, 2015.

Docket Number: 15-037. Applicant: The Trustees of Princeton University, Princeton, NJ 08540. Instrument: Electron Microscope. Manufacturer: FEI Electron Optics BV, the Netherlands. Intended Use: See notice at 80 FR 65984, October 28, 2015.

Docket Number: 15-038. Applicant: South Dakota State University, Brookings, SD 57007. Instrument: Electron Microscope. Manufacturer: JEOL Ltd., Japan. Intended Use: See notice at 80 FR 65984, October 28, 2015.

Docket Number: 15-039. Applicant: University of Texas Southwestern Medical Center, Dallas, TX 75390. Instrument: Electron Microscope. Manufacturer: FEI Company, the Netherlands. Intended Use: See notice at 80 FR 65984-85, October 28, 2015.

Docket Number: 15-040. Applicant: UT Battelle, Oak Ridge National Laboratory, Oak Ridge TN 37831-6138. Instrument: Electron Microscope. Manufacturer: FEI Company, Czech Republic. Intended Use: See notice at 80 FR 65984-85, October 28, 2015.

Docket Number: 15-043. Applicant: New York Structural Biology Center, New York, NY 10027. Instrument: Electron Microscope. Manufacturer: FEI Co., the Netherlands. Intended Use: See notice at 80 FR 65984-85, October 28, 2015.

Docket Number: 15-046. Applicant: National Institute for Occupational Safety & Health, Morgantown, WV 26505. Instrument: Electron Microscope. Manufacturer: JEOL Ltd., Japan. Intended Use: See notice at 80 FR 65984-85, October 28, 2015.

Docket Number: 15-048. Applicant: Battelle/Pacific Northwest National Laboratory, Richland, WA 99352. Instrument: Electron Microscope. Manufacturer: FEI Co., Czech Republic. Intended Use: See notice at 80 FR 79307, December 21, 2015.

Docket Number: 15-053. Applicant: University of California at San Diego, La Jolla, CA 92093-0651. Instrument: Electron Microscope. Manufacturer: FEI Company, the Netherlands. Intended Use: See notice at 80 FR 79307-08, December 21, 2015.

Comments: None received. Decision: Approved. No instrument of equivalent scientific value to the foreign instrument, for such purposes as this instrument is intended to be used, is being manufactured in the United States at the time the instrument was ordered. Reasons: Each foreign instrument is an electron microscope and is intended for research or scientific educational uses requiring an electron microscope. We know of no electron microscope, or any other instrument suited to these purposes, which was being manufactured in the United States at the time of order of each instrument.

Dated: February 3, 2016.
Gregory W. Campbell,
Director, Subsidies Enforcement Office, Enforcement and Compliance.

[FR Doc. 2016-02552 Filed 2-8-16; 8:45 am]

BILLING CODE 3510-DS-P